FEDERAL RESERVE SYSTEM

Agency Information Collection Activities: Announcement of Board Approval Under Delegated Authority and Submission to the Office of Management and Budget

AGENCY: Board of Governors of the Federal Reserve System.

SUMMARY: The Board of Governors of the Federal Reserve System (Board) is adopting a proposal to extend for three years, without revision, the Registration of a Securities Holding Company (FR 2082; OMB No. 7100-0347).

FOR FURTHER INFORMATION CONTACT: Federal Reserve Board Clearance Officer—Nuha Elmaghrabi—Office of the Chief Data Officer, Board of Governors of the Federal Reserve System, Washington, DC 20551, (202) 452-3829.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, Without Revision, of the Following Information Collection

Report title: Registration of a Securities Holding Company.

Agency form number: FR 2082.

OMB control number: 7100-0347.

Frequency: On occasion.

Respondents: Certain nonbank companies that own at least one registered securities broker or dealer and which elect to become a supervised securities holding company (SHC).

Estimated number of respondents: 1.

Estimated average hours per response: 8.

Estimated annual burden hours: 8.

General description of report: The FR 2082 registration form is used whenever an SHC elects to register to become subject to supervision by the Board pursuant to section 618 of the Dodd-Frank Wall Street Reform and Consumer Protection Act (Dodd-Frank Act).¹

¹ See Dodd-Frank Act, Public Law 111-203, 124 Stat. 1376 (2010).

The FR 2082 requests the following from the registering SHC: An organization chart (including all subsidiaries); information regarding certain of the SHC's subsidiaries; shareholder reports and financial statements; information regarding the SHC's shareholders, senior officers and directors; information regarding the methods used by the SHC to monitor and control its operations; information regarding the SHC's foreign subsidiaries that are subject to comprehensive consolidated supervision and the regulatory system in which these foreign subsidiaries operate; and information regarding any other regulatory capital framework to which the SHC is subject. The information collected by the FR 2082 registration form is used by the Federal Reserve System to determine whether the registrant meets the requirements to become a supervised SHC and to complete the registration.

Legal authorization and confidentiality: The FR 2082 is authorized by section 618(b)(2)(A) of the Dodd-Frank Act, which requires companies that elect SHC status to register by filing with the Board such information and documents as the Board, by regulation, may prescribe. Submission of the FR 2082 is required to obtain a benefit.

The information provided on the FR 2082 form and in connection with an SHC's registration is generally considered public. Firms may request certain information provided in connection with the FR 2082 be kept confidential under the Freedom of Information Act (FOIA) in accordance with the Board's Rules Regarding Availability of Information.² Confidential commercial or financial information that is both customarily and actually treated as private may be kept confidential under FOIA exemption 4.³ Personal and biographical information of individuals required as part of the registration may be treated as confidential under FOIA exemption 6 if its disclosure “would constitute a clearly unwarranted invasion of personal privacy.” ⁴

² 12 CFR 261.17.

³ 12 U.S.C. 552(b)(4).

⁴ 12 U.S.C. 552(b)(6).

Current actions: On September 1, 2021, the Board published a notice in the Federal Register (86 FR 49029) requesting public comment for 60 days on the extension, without revision, of the Registration of a Securities Holding Company. The comment period for this notice expired on November 1, 2021. The Board did not receive any comments.

Board of Governors of the Federal Reserve System, December 6, 2021.
Michele Taylor Fennell,
Deputy Associate Secretary of the Board.

[FR Doc. 2021-26736 Filed 12-9-21; 8:45 am]

BILLING CODE 6210-01-P